POSTAL SERVICE

39 CFR Part 20

Global Express Guaranteed

AGENCY: Postal Service.

ACTION: Final rule.

SUMMARY: On April 19, 1999, the Postal Service published an interim rule introducing Priority Mail Global Guaranteed service on a test basis. The Postal Service has since amended that interim rule on four occasions, with the last amendment being announced on September 29, 2000, and amending the interim rule to rename the service Global Express Guaranteed service (GXG), establishing it as a permanent international service and expanding the service to include a new classification for Non-Document (merchandise) shipments. That amendment to the interim rule also established and published separate rates for the Non-Document service. The Postal Service hereby gives notice that it is implementing the interim rule as amended on a permanent basis.

EFFECTIVE DATE: November 30, 2000.

FOR FURTHER INFORMATION CONTACT: Malcolm E. Hunt, (770) 360-1104.

SUPPLEMENTARY INFORMATION: On April 19, 1999, the Postal Service announced in the Federal Register (64 FR 19039-19042) the introduction of Priority Mail Global Guaranteed (PMGG) service on an interim basis. With PMGG, the USPS provided customers with a fully featured premium international service for documents with full track and trace capability. This service was initially available from 3,000 retail locations for delivery to a total of 19 countries.

On November 4, 1999, the Postal Service announced in the Federal Register (64 FR 60106-60109) the expansion of PMGG service to permit acceptance at a total of 10,000 retail locations, with destination locations expanded to 65 countries and territories.

On May 26, 2000, the Postal Service announced in the Federal Register (65 FR 34096-34101) the further expansion of PMGG service to a total of 202 destinating countries and territories. A revised rate structure was also introduced.

On August 28, 2000, the Postal Service announced in the Federal Register (65 FR 52023-52028) a further expansion of PMGG service. The number of retail locations was increased to a total of 20,000, Document service rates were adjusted, optional document reconstruction insurance was increased to $2499, and delivery service was extended to China. An incorrect listing of three-digit ZIP Codes was included in the list of participating post offices in this rule. The correct list of participating post offices by three-digit ZIP Code is incorporated in the final rule.

On September 29, 2000, the Postal Service announced in the Federal Register (65 FR 58350-58359) a further expansion of PMGG service based on the successive and successful expansions of PMGG service. The Postal Service established it as a permanent international mail service. To effectuate this change, the Postal Service changed the name of the service to Global Express Guaranteed (GXG) and completed the expansion to include a new classification for merchandise shipments. GXG now consists of two mail classifications:

a. GXG Document service

b. GXG Non-Document service

The GXG Document service mail classification is for shipments that contain only documents and general correspondence for which no duty is assessed by the customs authority of the destinating country. This mail classification is a designated letter mail class pursuant to 39 U.S.C. 3623(d) and, as such, is sealed against inspection by the Postal Service. These Document service shipments may be subject to inspection in the destinating country for purposes of compliance with the customs requirements of the destinating country. The rate structure for Document service is separate and distinct from the rate structure for Non-Document service.

The GXG Non-Document service mail classification is for shipments that do not contain documents or general correspondence and for which duty may be assessed by the customs authority of the destinating country. Merchandise and all other dutiable items may be shipped using only this GXG classification. As such, this mail classification is not a letter mail class pursuant to 39 U.S.C. 3623(d). In order to provide for expedited customs clearance of these dutiable shipments, Non-Document service shipments will be subject to inspection by the Postal Service and its designated agents for purposes of air security and to determine that the contents are eligible for shipment via Non-Document service and that the contents are adequately declared on the GXG Air Waybill/Shipping Invoice to permit expedited customs clearance. These Non-Document service shipments may also be subject to inspection in the destinating country for purposes of compliance with the customs requirements of the destinating country. The rate structure for Non-Document service is separate and distinct from the rate structure for Document service and reflects the generally higher costs inherent with handling dutiable shipments. Non-Document service is not available to some countries to which Document service is provided. See the listing of destinating countries in International Mail Manual (IMM) 215.32 below for specific availability.

This separate mail classification treatment for GXG Document and Non-Document services is also reflected in the proposed changes to the Postal Service's Administrative Support Manual (ASM) provisions regarding mail security.

Although the Postal Service is exempted by 39 U.S.C. 410(a) from the advance notice requirements of the Administrative Procedure Act regarding proposed rulemaking (5 U.S.C. 553), the Postal Service solicited comment on the amendment to the interim rule. One comment was received regarding the different rate structure for the Document and Non-Document services, specifically that a half-pound rate is not available for Non-Document shipments. These rate structures were developed for GXG based upon the Postal Service's required cost coverage for providing these services and upon industry cost margins. A comment was also received regarding the lack of availability of the service in some post offices. GXG is available in approximately 20,000 post offices. Those offices were chosen based upon market research and the Postal Service's current logistical infrastructure to support the network.

Through the implementation of the interim rule, as amended, the Postal Service amends the International Mail Manual and the Administrative Support Manual as set forth below, both of which are incorporated by reference in the Code of Federal Regulations. See 39 CFR 20.1.

Transmittal letters changing the relevant pages in the International Mail Manual and the Administrative Support Manual will be published and automatically transmitted to all subscribers. Notice of issuance of the transmittal will be published in the Federal Register as provided by 39 CFR 20.3.

On or about September 26, 2000, the Postal Service announced in the Federal Register a proposed rule which would amend and renumber provisions in the International Mail Manual. If that rule is adopted, GXG will be found in Section 210 of Chapter 2 of the International Mail Manual.

List of Subjects in 39 CFR Part 20

Foreign relations, International postal service.

PART 20—[AMENDED]

1. The authority citation for 39 CFR Part 20 continues to read as follows:

Authority: 5 U.S.C. 552(a); 39 U.S.C. 401, 404, 407, 408.

2. Chapter 2 of the International Mail Manual is amended as follows:

2 CONDITIONS FOR MAILING

210 Express Mail International Service

* * * * *

215 Global Express Guaranteed

215.1 Description

215.11 General

Global Express Guaranteed (GXG) service is an international expedited delivery service provided through an alliance with DHL Worldwide Express, Inc. It provides reliable, high-speed, guaranteed, and time-definite service from selected post offices in the United States to a large number of international destinations. (Consult Countries and Cities Served Section of the Global Express Guaranteed Service Guide for destination service commitments.) GXG delivery service is guaranteed to meet the specified service standards or the postage paid may be refunded. Liability insurance is provided for lost or damaged shipments. See section 215.54 for an explanation of limits of liability.

215.12 Allowable Contents

Documents and general correspondence (non-dutiable items), and non-documents (all dutiable items including merchandise) may be shipped using GXG service. See 215.2 for classification and rate treatment of specific shipments based on content. The allowable contents for GXG shipments may also be restricted by the destinating country. Refer to the Global Express Guaranteed Service Guide for the definition of allowable contents for each destination country. Senders are responsible for determining if their item is allowable despite any statement made in the Global Express Guaranteed Service Guide, on the GXG Web Site, or by a postal employee or the Postal Service's agents.

215.2 Mail Classifications

215.21 Global Express Guaranteed Document Service

The GXG Document service mail classification is for shipments that contain only documents and general correspondence for which no duty is assessed by the customs authority of the destinating country (non-dutiable shipments). Packages shipped by GXG Document service are sealed against inspection by the Postal Service. These Document service shipments may be subject to inspection in the destinating country for purposes of compliance with the customs requirements of the destinating country. The postage rates applicable to Document service shipments are set forth in 215.61 and are separate and distinct from the postage rates for Non-Document service.

215.22 Global Express Guaranteed Non-Document Service

The GXG Non-Document service mail classification is for shipments that do not contain documents or general correspondence and for which duty may be assessed by the customs authority of the destinating country. Merchandise and all other dutiable items may be shipped using only this GXG classification. Non-Document service shipments will be subject to inspection by the Postal Service and its designated agents for purposes of air security and to determine that the contents are eligible for shipment via Non-Document service and that the contents are adequately declared on the GXG Air Waybill/Shipping Invoice to permit expedited customs clearance. These Non-Document service shipments may also be subject to inspection in the destinating country for purposes of compliance with the customs requirements of the destinating country. Non-Document service is not available to some countries to which Document service is provided. See the listing of destinating countries in 215.32 for specific availability. The postage rates applicable to Non-Document service shipments are set forth in 215.62 and are separate and distinct from the postage rates for Document service.

215.3 Service Areas

215.31 U.S. Origins

GXG items must be entered through selected post offices that are located in the following ZIP Code areas. Check with your local post office or review the Global Express Guaranteed Service Guide for a participating post office near you.

State | ZIP code areas
AL—Alabama | 352, 356-358, 361-362, 366, 368
AR—Arkansas | 722-723
AZ—Arizona | 850, 852-853, 857
CA—California | 900, 902-908, 910-918, 920-921, 926-928, 934, 936-937, 939-941, 943-951, 954
CO—Colorado | 800-803, 805-806, 808-810
CT—Connecticut | 060-069
DC—District of Columbia | 200, 202-203, 205
DE—Delaware | 197-199
FL—Florida | 320-323, 326-338, 342, 344, 346-347, 349
GA—Georgia | 299-319
IA—Iowa | 500-507, 510-511, 515-516, 520, 522-528
IL—Illinois | 600-620, 622, 625-627, 629
IN—Indiana | 460-479
KS—Kansas | 660-662, 667, 674, 676
KY—Kentucky | 400-406, 410-416, 421-424, 427
LA—Louisiana | 700-701, 703-704, 707-708
MA—Massachusetts | 010-027
MD—Maryland | 206-212, 214, 217, 219
ME—Maine | 039-041
MI—Michigan | 480-497
MN—Minnesota | 550-551, 553-554, 558-563
MO—Missouri | 630-631, 633, 636-641, 644-648, 654-658
MS—Mississippi | 383, 386-392, 394-397
MT—Montana | 591
NC—-North Carolina | 270-282, 286
NE—Nebraska | 680-681, 685-687
NH—New Hampshire | 010-011, 030-034, 036-038
NJ—New Jersey | 070-089
NM—New Mexico | 871
NY—New York | 100-101, 103-149
OH—Ohio | 430-458
OK—Oklahoma | 730-731, 734-738, 740-741, 743-748
OR—Oregon | 972
PA—Pennsylvania | 150-168, 170-176, 178-179, 189-191, 193-196
PR—Puerto Rico | 006-007, 009
RI—Rhode Island | 028-029
SC—South Carolina | 297-299
SD—South Dakota | 570-571
TN—Tennessee | 370-374, 376-385
TX—Texas | 750-756, 759-764, 768-770, 772-778, 780-782, 784, 786-788, 791, 794-796, 799
UT—Utah | 840-841, 843-847
VA—Virginia | 201, 220-227, 230-239
VI—Virgin Islands | 008
VT—Vermont | 054, 056
WA—Washington | 980-985, 988-989
WI—Wisconsin | 530-532, 534, 540, 546-548
WV—West Virginia | 250-257, 260, 267
WY—Wyoming | 820

215.32 Destinating Countries and Rate Groups

GXG service is available to the following destinating countries and territories. For rate purposes, countries have been placed into one of eight rate groups.

Country | Document service rate group | Non-document service rate group
Afghanistan | * | *
Albania | 8 | 8
Algeria | 8 | 8
Andorra | 6 | 6
Angola | 8 | 8
Anguilla | 7 | 7
Antigua & Barbuda | 7 | 7
Argentina | 5 | 5
Armenia | 8 | 8
Aruba | 7 | 7
Ascension | * | *
Australia | 4 | 4
Austria | 6 | 6
Azerbaijan | 8 | 8
Bahamas | 7 | 7
Bahrain | 4 | 4
Bangladesh | 4 | 4
Barbados | 7 | 7
Belarus | 8 | 8
Belgium | 3 | 3
Belize | 5 | 5
Benin | 8 | 8
Bermuda | 7 | 7
Bhutan | 5 | 5
Bolivia | 5 | 5
Bosnia-Herzegovina | 8 | 8
Botswana | 8 | 8
Brazil | 5 | 5
British Virgin Islands | 7 | 7
Brunei Darussalam | 8 | 8
Bulgaria | 8 | 8
Burkina Faso | 8 | 8
Burma (Myanmar) | 8 | 8
Burundi | 8 | 8
Cambodia | 8 | 8
Cameroon | 8 | 8
Canada | 1 | 1
Cape Verde | 8 | 8
Cayman Islands | 7 | 7
Central African Republic | 8 | 8
Chad | 8 | 8
Chile | 5 | 5
China | 4 | 4
Colombia | 5 | 5
Comoros | 8 | 8
Congo, Democratic Republic of the | 8 | 8
Congo, Republic of the (Brazzaville) | 8 | 8
Costa Rica | 5 | 5
Cote d'Ivoire (Ivory Coast) | 8 | 8
Croatia | 8 | 8
Cuba | 8 | *
Cyprus | 4 | 4
Czech Republic | 8 | 8
Denmark | 6 | 6
Djibouti | 8 | 8
Dominica | 7 | 7
Dominican Republic | 7 | 7
Ecuador | 5 | 5
Egypt | 4 | *
El Salvador | 5 | 5
Equatorial Guinea | 8 | 8
Eritrea | 8 | 8
Estonia | 8 | 8
Ethiopia | 8 | 8
Falkland Islands | 5 | 5
Faroe Islands | 6 | 6
Fiji | 5 | 5
Finland | 6 | 6
France | 3 | 3
French Guiana | 5 | *
French Polynesia | 8 | 8
Gabon | 8 | 8
Gambia | 8 | 8
Georgia, Republic of | 8 | 8
Germany | 3 | 3
Ghana | 8 | 8
Gibraltar | 6 | 6
Great Britain & Northern Ireland | 3 | 3
Greece | 6 | 6
Greenland | 6 | 6
Grenada | 7 | 7
Guadeloupe | 7 | 7
Guatemala | 5 | 5
Guinea | 8 | 8
Guinea-Bissau | 8 | 8
Guyana | 5 | 5
Haiti | 7 | 7
Honduras | 5 | 5
Hong Kong | 3 | 3
Hungary | 8 | 8
Iceland | 6 | 6
India | 4 | 4
Indonesia | 4 | 4
Iran | 4 | *
Iraq | * | *
Ireland (Eire) | 3 | 3
Israel | 4 | 4
Italy | 3 | 3
Jamaica | 7 | 7
Japan | * | *
Jordan | 4 | 4
Kazakhstan | 8 | 8
Kenya | 8 | 8
Kiribati | 8 | 8
Korea, Democratic People's Republic of (North) | * | *
Korea, Republic of (South) | 4 | 4
Kuwait | 4 | 4
Kyrgyzstan | 8 | 8
Laos | 8 | 8
Latvia | 8 | 8
Lebanon | 4 | 4
Lesotho | 8 | 8
Liberia | 8 | 8
Libya | * | *
Liechtenstein | 6 | 6
Lithuania | 8 | 8
Luxembourg | 3 | 3
Macao | 3 | 3
Macedonia, Republic of | 8 | 8
Madagascar | 8 | 8
Malawi | 8 | 8
Malaysia | 4 | 4
Maldives | 8 | 8
Mali | 8 | 8
Malta | 6 | 6
Martinique | 7 | 7
Mauritania | 8 | 8
Mauritius | 8 | 8
Mexico | 2 | 2
Moldova | 8 | 8
Mongolia | 8 | 8
Montserrat | 7 | 7
Morocco | 8 | 8
Mozambique | 8 | 8
Namibia | 8 | 8
Nauru | 8 | 8
Nepal | 8 | 8
Netherlands | 3 | 3
Netherlands Antilles | 7 | 7
New Caledonia | 5 | 5
New Zealand | 4 | 4
Nicaragua | 5 | 5
Niger | 8 | 8
Nigeria | 8 | 8
Norway | 6 | 6
Oman | 4 | 4
Pakistan | 4 | 4
Panama | 5 | 5
Papua New Guinea | 5 | 5
Paraguay | 5 | 5
Peru | 5 | 5
Philippines | 4 | 4
Pitcairn Island | * | *
Poland | 8 | 8
Portugal | 6 | 6
Qatar | 4 | 4
Reunion | 8 | 8
Romania | 8 | 8
Russia | 8 | 8
Rwanda | 8 | 8
St. Christopher (St. Kitts) & Nevis | 7 | 7
Saint Helena | * | *
Saint Lucia | 7 | 7
Saint Pierre & Miquelon | 1 | 1
Saint Vincent & Grenadines | 7 | 7
San Marino | 3 | 3
Sao Tome & Principe | 8 | 8
Saudi Arabia | 4 | 4
Senegal | 8 | 8
Serbia-Montenegro (Yugoslavia) | 8 | 8
Seychelles | 8 | 8
Sierra Leone | 8 | 8
Singapore | 3 | 3
Slovak Republic (Slovakia) | 8 | 8
Slovenia | 8 | 8
Solomon Islands | 8 | 8
Somalia | 8 | 8
South Africa | 8 | 8
Spain | 6 | 6
Sri Lanka | 4 | 4
Sudan | * | *
Suriname | 5 | 5
Swaziland | 8 | 8
Sweden | 6 | 6
Switzerland | 6 | 6
Syrian Arab Republic (Syria) | 4 | *
Taiwan | 3 | 3
Tajikistan | 8 | 8
Tanzania | 8 | 8
Thailand | 4 | 4
Togo | 8 | 8
Tonga | 8 | 8
Trinidad & Tobago | 7 | 7
Tristan da Cunha | * | *
Tunisia | 8 | 8
Turkey | 4 | 4
Turkmenistan | 8 | 8
Turks & Caicos Islands | 7 | 7
Tuvalu | 8 | 8
Uganda | 8 | 8
Ukraine | 8 | 8
United Arab Emirates | 4 | 4
Uruguay | 5 | 5
Uzbekistan | 8 | 8
Vanuatu | 5 | 5
Vatican City | 3 | 3
Venezuela | 5 | 5
Vietnam | 4 | 4
Wallis & Futuna Islands | 4 | 4
Western Samoa | 4 | 4
Yemen | 4 | 4
Zambia | 8 | 8
Zimbabwe | 8 | 8
* No service.

GXG service is available to all locations that are referenced in the Individual Country Listings except for the following:

a. Afghanistan

b. Ascension

c. Iraq

d. Japan

e. Korea, Democratic People's Republic of (North)

f. Libya

g. Pitcairn Island

h. Saint Helena

i. Sudan

j. Tristan de Cunha

The following countries are limited to GXG Document service only:

a. Cuba

b. Egypt

c. French Guiana

d. Iran

e. Syrian Arab Republic (Syria)

215.4 Service Guarantee

215.41 General

The Postal Service guarantees delivery within the service standards specified in the Global Express Guaranteed Service Guide or the sender may be entitled to a full refund of the postage paid. For the purpose of the service guarantee, the date and time of delivery, attempted delivery, or availability for delivery constitutes delivery.

215.42 Transit Days for Non-Document Service

For GXG Non-Document service, total transit days may be affected by general customs delays, specific customs commodity delays, holidays observed in the destinating country, and other factors beyond the Postal Service's control. See Terms and Conditions on the GXG Air Waybill/Shipping Invoice or in the Global Express Guaranteed Service Guide for details.

215.5 Inquiries, Postage Refunds, and Indemnity Claims

215.51 Inquiries

Inquiries concerning the delivery of GXG items are made by calling 1-800-222-1811 or through the Internet at http://www.usps.com/gxg.

215.52 Postage Refunds

Postage may be refunded if a shipment tendered at a designated post office before the specified deposit time is not delivered or if delivery is not attempted before 5:00 p.m. local time in the delivery location in accordance with the guaranteed delivery standards in the Global Express Guaranteed Service Guide. The mailer may file requests for postage refunds only by contacting a Customer Service Representative at 1-800-222-1811. The original receipt of the GXG Air Waybill/Shipping Invoice is required when filing a claim for a postage refund. Requests for postage refunds must be made no later than 30 days from the date of shipment. The GXG Customer Service Office will adjudicate refunds for GXG at 1-800-222-1811. Final approval and payment will be made by the Postal Service.

Refunds will not be made if delivery was attempted but could not be made, if the delivery address was incomplete or inaccurate, or if the shipment was delayed by circumstances outside the control of the Postal Service or its agents (as defined in the Global Express Guaranteed Service Guide).

215.53 Indemnity Claims

215.531 Claims for Document Service Shipments

If a Document service shipment is lost or damaged, the sender may file a claim for document reconstruction costs, subject to 215.54. All claims must be initiated within 30 days of the shipment date by contacting a Customer Service Representative at 1-800-222-1811; this representative will provide more details on how to file a claim. The original receipt of the GXG Air Waybill/Shipping Invoice must be included when filing a claim. Consult the Global Express Guaranteed Service Guide for limitations and restrictions on indemnity payments for GXG items. The GXG Customer Service Office will adjudicate claims for GXG at 1-800-222-1811. Final approval and payment will be made by the Postal Service.

215.532 Claims for Non-Document Service Shipments

If a Non-Document service shipment is lost or damaged, the sender may file a claim for the declared value of the shipment costs, subject to 215.54. All claims must be initiated within 30 days of the shipment date by contacting a Customer Service Representative at 1-800-222-1811; this representative will provide more details on how to file a claim. The original receipt of the GXG Air Waybill/Shipping Invoice must be included when filing a claim. Consult the Global Express Guaranteed Service Guide for limitations and restrictions on indemnity payments for GXG items. The GXG Customer Service Office will adjudicate claims for GXG at 1-800-222-1811. Final approval and payment will be made by the Postal Service.

215.54 Extent of Postal Service Liability for Lost or Damaged Contents

215.541 Document Service Shipments

Liability for a lost or damaged Document service shipment is limited to the lowest of the following:

a. $100 or the amount of additional optional insurance purchased.

b. The actual amount of the loss or damage.

c. The actual value of the contents.

“Actual value” means the lowest cost of replacing, reconstructing, or reconstituting the Allowable Contents of the shipment (determined at the time and place of acceptance).

215.542 Non-Document Service Shipments

Liability for a lost or damaged Non-Document service shipment is limited to the lowest of the following:

a. $100 or the amount of additional optional insurance purchased.

b. The actual amount of the loss or damage.

c. The actual value of the contents.

“Actual value” means the lowest cost of replacing, reconstructing, or reconstituting the Allowable Contents of the shipment (determined at the time and place of acceptance).

215.55 Insurance

215.551 Insurance for Document Service Shipments

Document reconstruction insurance (this is the reasonable costs incurred in reconstructing duplicates of nonnegotiable documents mailed), up to $100 per shipment, is included at no additional charge. Additional document reconstruction insurance may be purchased for Document service shipments, as outlined in section 215.553, not to exceed the total cost of reconstruction, $2,499 or a lesser amount as limited by country, content, or value. Coverage, terms, and limitations are subject to change.

215.552 Insurance for Non-Document Service Shipments

Non-Document insurance for loss, damage, or rifling, up to $100 per shipment, is included at no additional charge. Additional Non-Document insurance may be purchased for shipments, as outlined in section 215.553, not to exceed the total declared shipment value, $2,499 or a lesser amount as limited by country, content or value. Coverage, terms, and limitations are subject to change.

215.553 Insurance Fees

Insurance amount | Fee
$100 | No Fee
200 | $0.70
300 | 1.40
400 | 2.10
500 | 2.80
For document reconstruction insurance or Non-Document insurance coverage above $500, add $0.70 per $100 or fraction thereof, up to a maximum of $2,499 per shipment
2,499 | 16.80

BILLING CODE 7710-12-U

215.6 Postage

215.61 Document Service Rates/Groups

215.62 Non-Document Service Rates/Groups

215.63 Payment of Postage

215.631 Methods of Payment

Both GXG Document service shipments and Non-Document service shipments may be paid by postage stamps, postage validation imprinter (PVI) labels, or postage meter stamps.

215.632 Official Mail

Mailings Made by Federal Government Agencies

GXG shipments that are originated by federal agencies and departments are subject to the same postage payment requirements, weight and size limits, customs requirements, and general conditions for mailing as GXG shipments that are originated by non-governmental entities.

USPS Mailings

Both GXG Document Service shipments and Non-Document Service shipments mailed by Postal Service entities must bear the G-10 permit indicia that is prescribed for all USPS official mail. There is a 70-pound weight limit for USPS-originated GXG shipments going to all authorized, destinating countries. See section 144.2.

215.7 Weight and Size Limits

215.71 General

The weight, dimensional weight, and size limits set forth in this section are the same for both GXG Document service shipments and Non-Document service shipments.

215.72 Weight Limits

The maximum weight is 70 pounds.

215.73 Dimensional Weight

The equation to determine dimensional weight is as follows:

(Length × Width × Height)/166 = Dimensional Weight

When determining the dimensional weight, each individual measurement must be rounded down to the nearest whole inch.

215.74 Size Limits

215.741 Minimum Size

Items must be large enough—approximately 9 inches in height and 12 inches in length—so that a GXG Air Waybill/Shipping Invoice can be affixed on the face of the item.

215.742 Maximum Size

Length and girth combined may not exceed 108 inches. Individual dimensions may not exceed the following:

a. Length: 46 inches.

b. Width: 35 inches.

c. Height: 46 inches.

215.8 Preparation Requirements

215.81 Preparation by the Sender

a. Prepare the item as a flat or package using either the GXG envelope provided by the Postal Service or mailer-supplied packaging. Mailers using their own envelope or wrapping must also affix a GXG sticker (Item 107RGG3) to the front and back of the item.

b. Complete the GXG Air Waybill/Shipping Invoice (Item 11FGG1) to show the complete address of the sender and addressee. Items cannot be addressed to a post office box or an APO or FPO address.

c. GXG Document Service Shipment Preparation: Complete the “Shipment Details” to show the contents in detail including description and estimated cost of reconstruction. A separate customs declaration is not used. Sign and date the mailer agreement.

d. GXG Non-Document Service Shipment Preparation: Complete the “Shipment Details” to show the contents in detail including description, valuation, and country of manufacture. Non-Document service shipments cannot have a value that exceeds US $2,499. A separate customs declaration is not used. Sign and date the mailer agreement.

215.82 Preparation by Acceptance Employee

a. Check that the sender has properly completed the GXG Air Waybill/Shipping Invoice.

b. Complete the postage transaction if the item is not prepaid.

c. Complete the “Origin” information.

d. Remove the customer's copy of the GXG Air Waybill/Shipping Invoice and give it to the customer. Process the GXG Air Waybill/Shipping Invoice according to directions on the shipping document.

215.83 Customs Forms Not Required

The GXG Air Waybill/Shipping Invoice contains space for the sender to declare the contents. A separate postal customs declaration is not used.

* * * * *

[The Individual Country Listing pages in the International Mail Manual will be revised to reflect the availability of GXG service and the applicable postage rates.]

Administrative Support Manual

2 AUDITS AND INVESTIGATIONS

* * * * *

27 Security

* * * * *

274 Mail Security

* * * * *

274.2 Opening, Searching, and Reading Mail Generally Prohibited

* * * * *

274.23 Definitions

274.231 Mail Sealed Against Inspection

The following terms and definitions apply:

a. For purposes of this part, the terms “mail sealed against inspection” and “sealed mail” mean mail on which appropriate postage is paid, and which, under postal laws and regulations, is included within a class of mail maintained by the Postal Service for the transmission of letters sealed against inspection.

b. The terms include First-Class Mail, Priority Mail, Express Mail (domestic and international), Mailgram messages, GXG Document service, and the international letter mail forming part of the LC class of Postal Union mail. See the definition of Postal Union mail in the International Mail Manual.

c. The terms exclude incidental First-Class matter permitted to be enclosed in or attached to certain Periodicals, Standard (A) and Standard (B) mailings (see DMM E070) and international transit mail (see 274.8).

d. When sealed mail is part of a mixed class mailing (see DMM E070), the sealed mail component of the combination item is treated as sealed mail only if it is contained in its own envelope or other form of sealed container.

274.232 Mail Not Sealed Against Inspection

The following terms and definitions apply:

a. For purposes of this part, the terms “mail not sealed against inspection” and “unsealed mail” mean mail on which appropriate postage for sealed mail is not paid, and which under postal laws or regulations is not included within a class of mail maintained by the Postal Service for the transmission of letters sealed against inspection.

b. The terms include Periodicals, Standard Mail, incidental First-Class attachments or enclosures mailed under DMM E070, and (as defined in the International Mail Manual) GXG Non-Document service, international parcel post mail, the AO class of Postal Union mail, and the international post cards and postal cards forming part of the LC class of Postal Union mail.

c. The terms do not include international transit mail (see 274.8).

* * * * *

Stanley F. Mires,
Chief Counsel, Legislative.

[FR Doc. 00-30776 Filed 11-30-00; 2:13 pm]

BILLING CODE 7710-12-U